DEPARTMENT OF TRANSPORTATION

Federal Transit Administration

[FTA Docket No. FTA 2022-0021]

Agency Information Collection Activity Under OMB Review: National Transit Database (NTD)

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: National Transit Database.

DATES: Comments must be submitted before September 19, 2022.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except federal holidays.

FOR FURTHER INFORMATION CONTACT: Thomas Coleman, Office of Budget & Policy (202) 366-5333 or Thomas.Coleman@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: National Transit Database (NTD)

(OMB Number: 2132-0008)

Background: 49 U.S.C. 5335 requires the Secretary of Transportation to maintain a reporting system, using a uniform system of accounts, to collect financial, operating, geographic service area coverage, and asset condition information from the nation's public transportation systems. Congress created the NTD to be the repository of transit data for the nation to support public transportation service planning. FTA has established the NTD to meet these requirements and has collected data for over 35 years. The NTD is comprised of several modules, Rural, Urban Annual, Monthly, and Safety Event Reporting. FTA continues to seek ways to reduce the burden of NTD reporting.

The existing information collection request (ICR) is currently scheduled to expire on January 31, 2023. This ICR incorporates the information collection activities associated with changes FTA is proposing to the NTD reporting requirements which include geographic service area coverage, transit worker assaults, and bus collision fatalities data as required by the Bipartisan Infrastructure Law, enacted as the Infrastructure Investment and Jobs Act (Pub. L. 117-58). The estimated burden from these changes is reflected in this notice's burden estimate. This notice serves to inform the public that a renewal of the ICR under the Paperwork Reduction Act with changes will be requested. FTA is soliciting comments to proposed changes to NTD reporting requirements in a separate Federal Register Notice.

Respondents: Recipients of Chapter 53 funds that either own, operate, or manage capital assets used in providing public transportation services.

Estimated Annual Number of Respondents: 2,481 respondents.

Estimated Total Annual Burden: 456,179 hours.

Frequency: Annual.

Nadine Pembleton,
Deputy Associate Administrator, Office of Administration.

[FR Doc. 2022-15381 Filed 7-18-22; 8:45 am]

BILLING CODE 4910-57-P